ENVIRONMENTAL PROTECTION AGENCY

[EPA-HQ-OPPT-2015-0234; FRL-9939-82]

Orientation Session for the Chemical Safety Advisory Committee; Notice of Public Meeting

AGENCY: Environmental Protection Agency (EPA).

ACTION: Notice.

SUMMARY: There will be a half-day orientation meeting of the new Chemical Safety Advisory Committee (CSAC). At this meeting, entitled “Orientation Session of the Chemical Safety Advisory Committee (CSAC),” the CSAC will consider and review background information on the Toxic Substances Control Act (TSCA), the TSCA Work Plan Chemical Program, and aspects of TSCA risk assessment approaches.

DATES: The meeting will be held on May 11, 2016, from approximately 1:00 p.m. to 5:00 p.m. (EST). This is an open public meeting that will be conducted over the Internet using Adobe Connect. Registration is required to attend this meeting. Please visit: http://www.epa.gov/csac to register.

Comments. The Agency encourages written comments to be submitted on or before April 26, 2016, and requests for oral comments be submitted on or before May 4, 2016. Written comments may be submitted until noon on May 10, 2016; however, anyone submitting written comments after April 26, 2016, should contact the Designated Federal Official (DFO) listed under FOR FURTHER INFORMATION CONTACT. For additional instructions, see Unit I.C. under SUPPLEMENTARY INFORMATION. Webcast. Please refer to the following Web site for information on how to access the meeting webcast: http://www.epa.gov/csac.

Special accommodations. For information on access or services for individuals with disabilities, and to request accommodation of a disability, please contact the DFO listed under FOR FURTHER INFORMATION CONTACT at least 10 days prior to the meeting to give EPA time to process your request.

ADDRESSES: Meeting: This meeting will be webcast. Please refer to the following Web site for information on how to access the webcast: http://www.epa.gov/csac.

Comments. Submit your comments, identified by docket identification (ID) number EPA-HQ-OPPT-2015-0234, by one of the following methods:

• Federal eRulemaking Portal: http://www.regulations.gov. Follow the online instructions for submitting comments. Do not electronically submit information you consider to be Confidential Business Information (CBI) or other information whose disclosure is restricted by statute.

• Mail: OPPT Docket, Environmental Protection Agency Docket Center (EPA/DC) (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets, is available at http://www.epa.gov/dockets.

Requests to present oral comments, and requests for special accommodations. Submit requests for special accommodations, or requests to present oral comments to the DFO listed under FOR FURTHER INFORMATION CONTACT.

FOR FURTHER INFORMATION CONTACT: Scott Lynn, Ph.D., DFO, Office of Science Coordination and Policy (7201M), Environmental Protection Agency, 1200 Pennsylvania Ave. NW., Washington, DC 20460-0001; telephone number: (202) 564-2631; email address: lynn.scott@epa.gov.

SUPPLEMENTARY INFORMATION:

I. General Information

A. Does this action apply to me?

This action is directed to the public in general. This action may, however, be of interest to those involved in the manufacture, processing, distribution, disposal, and/or the assessment of risks involving chemical substances and mixtures. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at http://www.epa.gov/dockets/comments.html.

C. How may I participate in this meeting?

You may participate in this meeting by following the instructions in this unit. To ensure proper receipt by EPA, it is imperative that you identify docket ID number EPA-HQ-OPPT-2015-0234 in the subject line on the first page of your request.

1. Written comments. The Agency encourages written comments be submitted, using the instructions in ADDRESSES and Unit I.B., on or before April 26, 2016, to provide CSAC the time necessary to consider and review the written comments. Written comments will be accepted until noon on May 10, 2016; however, anyone submitting written comments after April 26, 2016, should contact the DFO listed under FOR FURTHER INFORMATION CONTACT.

2. Oral comments. The Agency encourages each individual or group wishing to make brief oral comments to CSAC to submit a request to the DFO listed under FOR FURTHER INFORMATION CONTACT on or before May 4, 2016, in order to be included on the meeting agenda. Requests to present oral comments will be accepted until noon May 9, 2016, to the extent that time permits, the Chair of the CSAC may permit the presentation of oral comments. The request should identify the name of the individual making the presentation and the organization (if any) the individual will represent. Oral comments before CSAC are limited to approximately 5 minutes unless prior arrangements have been made. In addition, each speaker should provide electronic copies of his or her comments and presentation for distribution to CSAC.

II. Background

A. Purpose of CSAC

Office of Prevention Pesticides and Toxics (OPPT) manages programs under the Toxic Substances Control Act (TSCA), 15 U.S.C. 2601 et seq., and the Pollution Prevention Act (PPA), 42 U.S.C. 13101 et seq. Under these laws, EPA evaluates new and existing chemical substances and their risks, and finds ways to prevent or reduce pollution before it is released into the environment. OPPT also manages a variety of environmental stewardship programs that encourage companies to reduce and prevent pollution.

The CSAC was established under the Federal Advisory Committee Act, section 9(a), to provide advice and recommendations on the scientific basis for risk assessments, methodologies, and pollution prevention measures or approaches. The CSAC is composed of 10 members who serve as regular government employees (RGEs) or special government employees (SGEs). A copy of the CSAC charter is available on the EPA Web site at http://www.epa.gov/csac and in the docket at http://www.regulations.gov.

B. Public Meeting

During the meeting scheduled for May 11, 2016, entitled “Orientation Session of the Chemical Safety Advisory Committee (CSAC),” the CSAC will receive a background briefing including an overview of priority projects within EPA's OPPT, the TSCA, the TSCA Work Plan Chemical Program, and aspects of OPPT's risk assessment approaches. The briefing will provide an orientation for this new committee in preparation for upcoming reviews. The EPA is not presenting a charge or questions for the committee's deliberation at this meeting.

C. CSAC Documents and Meeting Minutes

EPA's background documents, related supporting materials, CSAC composition (i.e., members for this meeting), and the meeting agenda will be available approximately 3 weeks prior to the meeting. In addition, the Agency may provide additional background documents as the materials become available. You may obtain electronic copies of these documents and certain other related documents that might be available at http://www.regulations.gov and the following Web site: http://www.epa.gov/csac.

CSAC will prepare meeting minutes approximately 90 days after the meeting. The meeting minutes will be posted in the OPPT Docket at http://www.regulations.gov and the following Web site: http://www.epa.gov/csac.

Authority: 5 U.S.C. App. 2§ 9 (c).

Dated: December 16, 2015.
David J. Dix,
Director, Office of Science Coordination and Policy.

This document was received for publication by the Office of the Federal Register on April 8, 2016.

[FR Doc. 2016-08496 Filed 4-12-16; 8:45 am]

BILLING CODE 6560-50-P